NATIONAL ARCHIVES AND RECORDS ADMINISTRATION

[NARA-2026-003]

State, Local, Tribal, and Private Sector Policy Advisory Committee (SLTPS-PAC); Meeting

AGENCY: Information Security Oversight Office (ISOO), National Archives and Records Administration (NARA).

ACTION: Notice of Federal Advisory Committee meeting.

SUMMARY: We are announcing an upcoming meeting of the State, Local, Tribal, and Private Sector Policy Advisory Committee (SLTPS-PAC) in accordance with the Federal Advisory Committee Act and implementing regulations.

DATES: The meeting will be on January 7, 2026, from 10 a.m. to 11 a.m.

ADDRESSES: This meeting will be a hybrid of virtual and in person in the Adams Conference Room, 700 Pennsylvania Avenue; Washington, DC 20408. We will send instructions on how to access the meeting to those who register according to the instructions below.

FOR FURTHER INFORMATION CONTACT: Heather Harris Pagán, ISOO Senior Program Analyst, at SLTPS_PAC@nara.gov or (202) 357-5351. Contact ISOO at ISOO@nara.gov.

SUPPLEMENTARY INFORMATION: This meeting is open to the public in accordance with the Federal Advisory Committee Act (5 U.S.C. app 2) and implementing regulations at 41 CFR 102-3. The Committee will discuss matters relating to the classified national security information program for state, local, tribal, and private sector entities.

Procedures: Members of the public must register in advance for the meeting through the link https://www.zoomgov.com/meeting/register/CRP6HQpgQOiqriSRZq-vUQ if they wish to attend. Please notify Heather Harris Pagán if you will be in person.

Merrily Harris,
Committee Management Officer.

[FR Doc. 2025-22946 Filed 12-15-25; 8:45 am]

BILLING CODE 7515-01-P